DEPARTMENT OF HEALTH AND HUMAN SERVICES

National Institutes of Health

Statement of Delegation of Authority

Notice is hereby given that I have delegated to the Director, National Institutes of Health (NIH), the authorities vested in the Secretary of Health and Human Services under Section 2054 of the 21st Century Cures Act (Pub. L. 114-255), as amended, to consult with relevant agencies and stakeholders and to receive recommendations with respect to enhancements to the clinical trial registry data bank under section 402(j) of the Public Health Service Act (42 U.S.C. 282(j)), including with respect to usability, functionality, and search capability.

These authorities may be redelegated. Exercise of this authority shall be in accordance with established policies, procedures, guidelines, and regulations as prescribed by the Secretary. The Secretary retains the authority to submit reports to Congress, and promulgate regulations.

Dated: February 22, 2017.
Thomas E. Price,
Secretary.

[FR Doc. 2017-03867 Filed 2-27-17; 8:45 am]

BILLING CODE 4140-01-P